ENVIRONMENTAL PROTECTION AGENCY

[EPA-HQ-OPP-2009-1017; FRL-8863-4]

Product Cancellation Order for Certain Pesticide Registrations

AGENCY: Environmental Protection Agency (EPA).

ACTION: Notice.

SUMMARY: This notice announces EPA's order for the cancellations, voluntarily requested by the registrants and accepted by the Agency, of the products listed in Tables 1, 2, and 3 of Unit II., pursuant to section 6(f)(1) of the Federal Insecticide, Fungicide, and Rodenticide Act (FIFRA), as amended. This cancellation order follows the November 10, 2010 and November 17, 2010 Federal Register Notices of Receipt of Requests from the registrants listed in Table 4 of Unit II. to voluntarily cancel these product registrations. In these notices, EPA indicated that it would issue an order implementing the cancellations, unless the Agency received substantive comments within the 30-day comment period that would merit its further review of these requests, or unless the registrants withdrew their requests. The Agency received comments on the November 10, 2010 notice but none merited its further review of the requests. Accordingly, EPA hereby issues in this notice a cancellation order granting the requested cancellations. Any distribution, sale, or use of the products subject to this cancellation order is permitted only in accordance with the terms of this order, including any existing stocks provisions.

DATES: The cancellations are effective as noted in Unit IV. of this cancellation order.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 117 products registered under FIFRA section 3. These registrations are listed in sequence by registration number in Tables 1, 2, and 3 of this unit.

Table 1—Product Cancellations
EPA Reg. No. | Product name | Active ingredients
000228-00196 | Riverdale Patron TM DP-4 Ester | 2, 4-DP
000228-00212 | Riverdale Prometon 1.5 Ready To Use Vegetation Killer | Prometon
000228-00213 | Riverdale Prometon 5E Vegetation Killer | Prometon
000228-00214 | Riverdale Prometon 3.73E Vegetation Killer | Prometon
000228-00685 | Imazapyr E-Pro 2E—Site Prep & Basal Herbicide | Imazapyr isopropylamine salt
000228-00686 | Imazapyr E-Pro 2—VM & Aquatic Herbicide | Imazapyr
000228-00687 | Imazapyr E-Pro 4—Forestry Herbicide | Imazapyr isopropylamine salt
000239-02391 | Ortho Dormant Disease Control | Calcium polysulfide
000264-01001 | Scout Manufacturing Use Product | Tralomethrin
000264-01003 | Scout Insecticide | Tralomethrin
000264-01004 | Scout X-tra Insecticide | Tralomethrin
000264-01005 | Scout 0.3 EC Insecticide | Tralomethrin
000264-01009 | HR 20900 Insecticide | Deltamethrin Tralomethrin
000264-01010 | Scout X-tra Gel Insecticide | Tralomethrin
000432-00755 | Saga WP Insecticide | Tralomethrin
000432-00760 | Saga WSB | Tralomethrin
000432-00784 | Saga RTU-FA Insecticide | Tralomethrin
000432-01278 | Tralex Manufacturing Use Product II | Tralomethrin
000506-00157 | Tat House & Garden Insecticide Killer | Tetramethrin Phenothrin
000655-00805 | Noxfish Fish Toxicant Liquid-Emulsifiable | Cube Resins other than rotenone Rotenone
000655-00806 | Cube Powder Fish Toxicant | Cube Resins other than rotenone Rotenone
000655-00807 | Powdered Cube Root | Cube Resins other than rotenone Rotenone
000802-00533 | Noxall Vegetation Killer | Prometon
001448-00093 | Busan 1016 | Carbamodithioic acid, cyano-, disodium salt Metam-sodium
001448-00361 | Busan 1236 | Metam-sodium
001663-00035 | Grant's Flying & Crawling Insect Killer | Permethrin Piperonyl butoxide Tetramethrin
001677-00219 | Sanova Base (25%) | Sodium chlorite
001839-00115 | Onyxide 200 Oil Field Application Preservative | Hexahydro-1,3,5-tris(2-hydroxyethyl)-s-triazine
001839-00156 | Onyxide 200-50% | Hexahydro-1,3,5-tris(2-hydroxyethyl)-s-triazine
004822-00491 | Windex Antibacterial Glass & Surface Cleaner | Isopropyl alcohol Propylene glycol
005741-00009 | Sparquat 256 Germicidal Cleaner | 1-Decanaminium, N,N-dimethyl-N-octyl-, chloride; 1-Octanaminium, N,N-dimethyl-N-octyl-, chloride; Alkyl dimethyl benzyl ammonium chloride (50% C-14, 40%C12, 10%C16); 1-Decanaminium, N-decyl-N,N-dimethyl-, chloride
009688-00192 | Chemsico Herbicide Concentrate P | Prometon
009779-00133 | Riverside 912 Herbicide | MSMA (and salts)
028293-00160 | Unicorn House and Carpet Spray 11 | Phenothrin Tetramethrin
028293-00215 | Unicorn IGR Pressurized Spray | Phenothrin Pyriproxyfen Tetramethrin
033753-00025 | Myacide DZ | Dazomet
033753-00028 | Myacide HT T | Hexahydro-1,3,5-tris(2-hydroxyethyl)-s-triazine
033753-00029 | Myacide HT | Hexahydro-1,3,5-tris(2-hydroxyethyl)-s-triazine
034704-00647 | Metam Soil Fumigant | Metam-sodium
034704-00769 | Nemasol 42% | Metam-sodium
053883-00071 | Martin's Permethrin Termiticide/Insecticide | Permethrin
053883-00093 | Glyphosate Technical | Glyphosate
053883-00190 | Permethrin .5% Multi-Purpose Insecticide Spray | Permethrin
066330-00063 | ETK-1101 | Sodium tetrathiocarbonate
066330-00069 | Enzone | Sodium tetrathiocarbonate
072155-00007 | Merit + Tempo Ready-to-Spray Insecticide | Cyfluthrin Imidacloprid
072155-00008 | Tempo 0.1 Fire Ant Granular | Cyfluthrin
072155-00011 | Merit 0.0003% PM Plus Fertilizer | Imidacloprid
072155-00016 | Glyphosate 2% RTU Herbicide | Glyphosate-isopropylammonium
072155-00017 | Prodiamine 0.26% Granular Herbicide Plus Lawn Fertilizer | Prodiamine
072155-00018 | Prodiamine 0.28%G Lawn Herbicide | Prodiamine
072155-00020 | Trimec Granular Herbicide Plus Fertilizer | Dicamba 2,4-D Mecoprop-P
072155-00025 | Beta-Cyfluthrin 0.0015% RTU Insecticide | beta-Cyfluthrin
072155-00026 | Beta-Cyfluthrin 0.38% Concentrate Insecticide | beta-Cyfluthrin
072155-00030 | Imidacloprid 0.36% + Beta-Cyfluthrin 0.18% RTS Insecticide | beta-Cyfluthrin Imidacloprid
072155-00033 | Dylox Insect Granules | Trichlorfon
072155-00037 | Merit Concentrate Insecticide | Imidacloprid
072155-00038 | Merit RTU Insecticide | Imidacloprid
072155-00041 | Merit + Tempo Ready-to-Use Insecticide | Cyfluthrin Imidacloprid
072155-00042 | Merit + Tempo Concentrated Insecticide | Cyfluthrin Imidacloprid
072155-00045 | Tempo Insecticide | Cyfluthrin
072155-00050 | Merit + Tempo Concentrate Insecticide II | Cyfluthrin Imidacloprid
072155-00052 | Laser Ant & Roach Killer Pump Spray II | Cyfluthrin
072155-00053 | Merit PM Plus Fertilizer | Imidacloprid
072155-00054 | Tempo 1 FAD | Cyfluthrin
072155-00059 | Imidacloprid 1.85 RD Insecticide | Imidacloprid
072155-00060 | Trimec+ Prodiamine Granular Herbicide Plus Fertilizer | Dicamba 2,4-D Mecoprop-P Prodiamine
072155-00065 | Tempo 0.38% Concentrated Insecticide | beta-Cyfluthrin
072642-00007 | Spinosad Ear Tag | Spinosad
AL000001 | Penncap-M Microencapsulated Insecticide | Methyl parathion
AL050003 | Waylay 3.2 Ag Permethrin Insecticide | Permethrin
AL060003 | Permethrin 3.2 E.C. | Permethrin
AR000006 | Penncap-M Microencapsulated Insecticide | Methyl parathion
AR050009 | Waylay 3.2 Ag Permethrin Insecticide | Permethrin
CA000001 | Penncap-M Microencapsulated Insecticide | Methyl parathion
GA050006 | Waylay 3.2 Ag Permethrin Insecticide | Permethrin
IL100001 | Prentox Prenfish Toxicant | Cube Resins other than rotenone Rotenone
LA050012 | Waylay 3.2 Ag Permethrin Insecticide | Permethrin
LA090005 | Penncap-M Microencapsulated Insecticide | Methyl parathion
MO990005 | Dylox 80 Turf and Ornamental Insecticide | Trichlorfon
MS000009 | Penncap-M Microencapsulated Insecticide | Methyl parathion
MS050018 | Waylay 3.2 Ag Permethrin Insecticide | Permethrin
MT050002 | Prentox Prenfish Toxicant | Cube Resins other than rotenone Rotenone
NY080011 | Prentox Prenfish Toxicant | Cube Resins other than rotenone Rotenone
SC050005 | Waylay 3.2 Ag Permethrin Insecticide | Permethrin
TX050004 | Waylay 3.2 Ag Permethrin Insecticide | Permethrin
TX990012 | Penncap-M Microencapsulated Insecticide | Methyl parathion

Table 2—Temephos Product Cancellations
EPA Reg. No. | Product name | Active ingredients
000192-00213 | Temexx Mini-G Larvicide | Temephos
000192-00215 | Temexx Micro-G Larvicide | Temephos
000769-00678 | Temexx 4EC Larvicide | Temephos
000769-00722 | Temexx 5G Larvicide | Temephos
000769-00723 | Temexx 1G Larvicide | Temephos
000769-00725 | Temexx 2G Larvicide | Temephos
000769-00990 | Temephos Technical | Temephos
008329-00015 | 5% Skeeter Abate | Temephos
008329-00016 | Clarke Abate 2-BG | Temephos
008329-00017 | Clarke 1% Skeeter Abate | Temephos
008329-00030 | Clarke Abate 5% Tire Treatment | Temephos
008329-00056 | Abate Insecticide MUP | Temephos
008329-00060 | Abate 4E Insecticide | Temephos
008329-00069 | Abate 4E Insecticide—For Use Only in California | Temephos
008329-00070 | 5% Skeeter Abate—For Use Only in California | Temephos
008329-00071 | Abate 2 BG—For Use Only in California | Temephos
FL070008 | Abate 4E Insecticide | Temephos
FL080015 | Allpro Provect 4E Larvicide | Temephos

Table 3—Methyl Bromide and Metam-Sodium Product Cancellations
EPA Reg. No. | Product name | Active ingredients
005481-00467 | Vapam Soil Fumigant Solution | Metam-sodium
005785-00004 | Brom-O-Gas | Methyl bromide
008622-00005 | Ameribrom Methyl Bromide—Grain Fumigant | Methyl bromide
008622-00006 | Metabrom 98 | Methyl bromide
008622-00014 | 70-30 Soil Fumigant | Methyl bromide
008622-00017 | Metabrom 99 | Methyl bromide
051036-00060 | Fume V Soil Fumigant | Metam-sodium
AZ900003 | Brom-O-Gas 2% Chloropicrin | Methyl bromide
AZ900008 | Brom-O-Gas | Methyl bromide
FL970009 | Terr-O-Gas 67 | Methyl bromide Chloropicrin
FL970010 | Terr-O-Gas 98 Preplant Soil Fumigant | Methyl bromide Chloropicrin
HI910006 | Terr-O-Gas 98 Preplant Soil Fumigant | Methyl bromide Chloropicrin

Table 4 of this unit includes the names and addresses of record for all registrants of the products in Tables 1, 2, and 3 of this unit, in sequence by EPA company number. This number corresponds to the first part of the EPA registration numbers of the products listed in this unit.

Table 4 —Registrants of Cancelled Products
Company No. | Company name and address
192 | Value Gardens Supply, LLC, P.O. Box 585, Saint Joseph, MO 64502.
228 | Nufarm Americas Inc., 150 Harvester Drive, Suite 150, Burr Ridge, IL 60527.
239 | The Scotts Company, 14111 Scottslawn Road, Marysville, OH 43041.
264 | Bayer CropScience LP, 2 T.W. Alexander Drive, P.O. Box 12014, Research Triangle Park, NC 27709.
432 | Bayer Environmental Science, 2 T.W. Alexander Drive, P.O. Box 12014, Research Triangle Park, NC 27709.
506 | Walco Linck Company, 30856 Rocky Rd, Greeley, CO 80631-9375.
655 | Prentiss, INC., 3600 Mansell Rd, Suite 350, Alpharetta, GA 30022.
769 | Value Gardens Supply, LLC, P.O. Box 585, St. Joseph, MO 64502.
802 | Lilly Miller Brands, P.O. Box 1019, Salem, VA 24153-3805.
1448 | Buckman Laboratories Inc., 1256 North McLean Blvd, Memphis, TN 38108.
1663 | Grant Laboratories, Inc., Registrations by Design, Inc., P.O. Box 1019, Salem, VA 24153.
1677 | Ecolab Inc., 370 North Wabasha St., St. Paul, MN 55102.
1839 | Stepan Company, 22 W. Frontage Rd, Northfield, IL 60093.
4822 | S.C. Johnson & Son, Inc., 1525 Howe St., Racine, WI 53403.
5481 | Amvac Chemical Corporation, 4695 MacArthur Court, Suite 1250, Newport Beach, CA 92660.
5741 | Spartan Chemical Company, Inc., 1110 Spartan Drive, Maumee, OH 43537.
5785 | Great Lakes Chem Corps, P.O. Box 2200, West Lafayette, IN 47996-2200.
8329 | Clarke Mosquito Control Products, Inc. , P.O. Box 72197, Roselle, IL 60172.
8622 | ICL-IP America, Inc., 95 MacCorkle Avenue, SW, South Charleston, WV 25303.
9688 | Chemsico, Div of United Industries Corp, P.O. Box 142642, St Louis, MO 63114-0642.
9779 | Agriliance, LLC, P.O. Box 64089, St. Paul, MN 55164-0089.
28293 | Phaeton Corporation, Agent Registrations By Design, Inc, P.O. Box 1019 , Salem, VA 24153.
33753 | BASF Corporation, 100 Campus Drive, Florham Park, NJ 07932.
34704 | Loveland Products, Inc., P.O. Box 1286, Greeley, CO 80632-1286.
51036 | BASF Sparks LLC, PO Box 13528, Research Triangle Park, NC 27709-3528.
53883 | Control Solutions, Inc., 427 Hide Away Circle, Cub Run, KY 42729.
66330 | Arysta Lifescience North America, LLC, 155401 Weston Parkway, Suite 150, Cary, NC 27513.
72155 | Bayer Advanced, A Business Unit of Bayer Cropscience LP, 2 T.W. Alexander Drive, P.O. Box 12014, Research Triangle Park, NC 27709.
72642 | Elanco Animal Health, A Division of Eli Lilly & Co., 4061 North 156th Drive, Goodyear, AZ 85338.
AL000001, AL050003, AL060003, AR000006, AR050009, CA000001, GA050006, LA050012, LA090005, MS000009, MS050018, SC050005, TX050004 | United Phosphorus, Inc., 630 Freedom Business Center, Suite 402, King of Prussia, PA 19406.
AZ900003, AZ900008, FL970009, FL970010, HI910006 | Great Lakes Chem Corps, P.O. Box 2200, West Lafayette, IN 47996-2200.
FL070008 | Clarke Mosquito Control Products, Inc. , P.O. Box 72197, Roselle, IL 60172.
FL080015 | Value Gardens Supply, LLC, P.O. Box 585, Saint Joseph, MO 64502.
MO990005 | Missouri Aquaculture Association, P.O. Box 630, Jefferson City, MO 65102-6864.
MT050002, NY080011, IL100001 | Prentiss, INC. , 3600 Mansell Rd, Suite 350, Alpharetta, GA 30022.
TX990012 | Cerexagri, Inc., 630 Freedom Business Center, Suite 402, King of Prussia, PA 19406.

III. Summary of Public Comments Received and Agency Response to Comments

Comments were received from the American Mosquito Control Association and the IR-4 Project on temephos. Both organizations emphasized the benefits of temephos as it is used in public health for mosquito control and requested that EPA extend the comment period for these product cancellations. However, the Agency recognizes the role of temephos in mosquito control and has agreed to a 4-year phase-out of the product registrations to accommodate this need and allow registrants time to develop replacement products. The current temephos products would not be cancelled until December 30, 2015. For these reasons, the Agency does not believe that the comment period should be extended.

IV. Cancellation Order

Pursuant to FIFRA section 6(f), EPA hereby approves the requested cancellations of the registrations identified in Tables 1, 2, and 3 of Unit II. Accordingly, the Agency hereby orders that the product registrations identified in Tables 1, 2, and 3 of Unit II. are cancelled. The effective date of the cancellation of the products listed in Tables 1 and 3 of this notice is February 25, 2011. The effective date of the cancellation of the products listed in Table 2 is December 31, 2015. Any distribution, sale, or use of existing stocks of the products identified in Tables 1, 2, and 3 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notices of receipt for this action were published for comment in the Federal Register issues of November 10, 2010 (75 FR 69073) (FRL-8851-5) and November 17, 2010 (75 FR 70256) (FRL-8850-1). The comment periods closed on December 10, 2010 and December 17, 2010 respectively.

VI. Provisions for Disposition of Existing Stocks

Existing stocks are those stocks of registered pesticide products which are currently in the United States and which were packaged, labeled, and released for shipment prior to the effective date of the cancellation action. The existing stocks provisions for the products subject to this order are as follows.

A. For All Products Listed in Table 1 of Unit II

The registrants may continue to sell and distribute existing stocks of products listed in Table 1 of Unit II. until February 25, 2012, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

B. For All Products Listed in Table 2 of Unit II

After December 31, 2015, registrants are prohibited from selling or distributing existing stocks of products containing temephos labeled for all uses.

After December 31, 2016, persons other than registrants are prohibited from selling or distributing existing stocks of products containing temephos labeled for all uses.

After December 31, 2016, existing stocks of products containing temephos labeled for all uses, already in the hands of users can be used legally until they are exhausted, provided that such use complies with the EPA-approved label and labeling of the affected product.

C. For All Products Listed in Table 3 of Unit II

All sale or distribution by the registrant of existing stocks is prohibited after publication of the cancellation order in the Federal Register, unless that sale or distribution is solely for the purpose of facilitating disposal or export of the product.

Existing stocks may be sold and distributed by persons other than the registrant for 120 days from the effective date of the cancellation order.

Existing stocks may be used until exhausted, provided that such use complies with the EPA-approved label and labeling of the product.

List of Subjects

Environmental protection, Pesticides and pests.

Dated: February 8, 2011.
Richard P. Keigwin, Jr.,
Director, Pesticide Re-evaluation Division, Office of Pesticide Programs.

[FR Doc. 2011-4140 Filed 2-24-11; 8:45 am]

BILLING CODE 6560-50-P